FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 018606F.

Name: All Merit Express, Inc.

Address: 13453 Pumice Street, Norwalk, CA 90650.

Date Revoked: August 17, 2009.

Reason: Failed to maintain a valid bond.

License Number: 002908F.

Name: Archer Freight Systems, Inc.

Address: c/o Blue Cargo Group, LLC, 20801 S. Santa Fe Ave., Carson, CA 90810.

Date Revoked: August 5, 2009.

Reason: Surrendered license voluntarily.

License Number: 020650N.

Name: ATL Global (USA) Inc.

Address: 230-59 Int'l Airport Center Blvd., Ste 190 Springfield Gardens, NY 11423.

Date Revoked: August 1, 2009.

Reason: Failed to maintain a valid bond.

License Number: 019087N.

Name: Cargo Specialists, Inc.

Address: 100 W. Imperial Ave., Unit J, El Segundo, CA 90245.

Date Revoked: August 1, 2009.

Reason: Failed to maintain a valid bond.

License Number: 021757N.

Name: Champion Xpress Shipping Inc.

Address: 106-13 Liberty Ave., Ozone Park, NY 11417.

Date Revoked: August 8, 2009.

Reason: Failed to maintain a valid bond.

License Number: 016814F.

Name: Friendly Forwarders, Inc.

Address: 7458 SW 48th Street, Miami, FL 33155.

Date Revoked: August 1, 2009.

Reason: Failed to maintain a valid bond.

License Number: 021681F.

Name: HTS, Inc. dba Harte-Hanks Logistics .

Address: 1525 NW 3rd Street, Ste. 21, Deerfield Beach, FL 33442.

Date Revoked: July 28, 2009.

Reason: Surrendered license voluntarily.

License Number: 019782NF.

Name: James Global Logistics, Inc.

Address: 405 Atlantis Road, Ste. A-107, Cape Canaveral, FL 32920.

Date Revoked: August 16, 2009.

Reason: Failed to maintain valid bonds.

License Number: 004076F.

Name: Marimar Forwarding, Inc.

Address: 806 NW 31st Ave., Miami, FL 33182.

Date Revoked: August 6, 2009.

Reason: Failed to maintain a valid bond.

License Number: 018950N.

Name: Orion Transport Corporation.

Address: 1206 Jon Street, Torrance, CA 90502.

Date Revoked: August 1, 2009.

Reason: Failed to maintain a valid bond.

License Number: 019221N.

Name: Pacific Hong International Corp. dba Charming Shipping Company.

Address: 927 South Azusa Ave., Ste. C, City of Industry, CA 91748.

Date Revoked: August 1, 2009.

Reason: Failed to maintain a valid bond.

License Number: 015489NF.

Name: Tardieu Inc. dba Tarimex.

Address: 8600 NW 30th Terrace, Ste. B, Miami, FL 33122.

Date Revoked: August 16, 2009.

Reason: Failed to maintain valid bonds.

License Number: 019290N.

Name: Tru-Line Logistics, Inc.

Address: 3025 W. Artesia Blvd., Ste. 100, Torrance, CA 90504.

Date Revoked: August 1, 2009.

Reason: Failed to maintain a valid bond.

License Number: 021230NF.

Name: Unicarga Intl' Freight Systems, Inc.

Address: 7901 NW 68th Street, Miami, FL 33166.

Date Revoked: August 7, 2009.

Reason: Failed to maintain valid bonds.

License Number: 019253N.

Name: Windsur Int'l Inc.

Address: 2570 Corporate Place, Ste. E 203, Monterey Park, CA 91754.

Date Revoked: August 1, 2009.

Reason: Failed to maintain a valid bond.

Sandra L. Kusumoto,
Director, Bureau of Certification and Licensing.

[FR Doc. E9-21325 Filed 9-3-09; 8:45 am]

BILLING CODE 6730-01-P